DEPARTMENT OF COMMERCE

National Oceanic and Atmospheric Administration

RIN 0648-XC221

New England Fishery Management Council; Public Meeting; Correction

AGENCY: National Marine Fisheries Service (NMFS), National Oceanic and Atmospheric Administration (NOAA), Commerce.

ACTION: Notice of correction to a public meeting; addition to agenda.

SUMMARY: The New England Fishery Management Council (Council) is revising the agenda for a public meeting of the Council on September 25-27, 2012 to consider actions affecting New England fisheries in the exclusive economic zone (EEZ). Recommendations from this group will be brought to the full Council for formal consideration and action, if appropriate.

DATES: The meeting will be held on Tuesday, Wednesday and Thursday, September 25-27 starting at 9 a.m. on Tuesday, at 8:30 a.m. on Wednesday and at 8 a.m. on Thursday.

ADDRESSES: The meeting will be held at the Radisson Hotel Plymouth Harbor, 180 Water Street, Plymouth, MA 02360; telephone: (508) 747-4900; fax: (508) 747-8937.

Council Address: New England Fishery Management Council, 50 Water Street, Mill 2, Newburyport, MA 01950.

FOR FURTHER INFORMATION CONTACT: Paul J. Howard, Executive Director, New England Fishery Management Council; telephone: (978) 465-0492.

SUPPLEMENTARY INFORMATION:

Thursday, September 27, 2012

The New England Fishery Management Council's September 25-27 agenda will occur as previously published in the Federal Register on September 7, 2012 (77 FR 55192). On Thursday, September 27, 2012, however, the final day of the meeting, there will be an addition to the items the Council will address. Just prior to adjournment, the Council will discuss the approval of alternatives to be included in the Standardized Bycatch Reporting Methodology (SBRM) Amendment for analysis

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard, Executive Director, at (978) 465-0492, at least 5 days prior to the meeting date.

Authority: 16 U.S.C. 1801 et seq.

Dated: September 7, 2012.
Tracey L. Thompson,
Acting Deputy Director, Office of Sustainable Fisheries, National Marine Fisheries Service.

[FR Doc. 2012-22506 Filed 9-12-12; 8:45 am]

BILLING CODE 3510-22-P